DEPARTMENT OF LABOR

Employment and Training Administration

[TA-W-39,326]

Chiquola Fabrics, LLC, Kingsport, Tennessee; Notice of Termination of Investigation

Pursuant to Section 221 of the Trade Act of 1974, an investigation was initiated on May 29, 2001 in response to a petition filed by a company official on the same date on behalf of workers at Chiquola Fabrics, LLC, Kingsport, Tennessee. Chiquola Fabrics, LLC purchased JPS Converter and Industrial Corporation, Borden Plant, Kingsport, Tennessee, whose workers were certified eligible to apply for Trade Adjustment Assistance (TA-W36,891). That certification has been amended to encompass workers at the same facility employed by Chiquola Fabrics, LLC, Kingsport, Tennessee.

The petitioner in this case has requested that the petition be withdrawn. Consequently, further investigation in this case would serve no purpose, and the investigation has been terminated.

Signed in Washington, DC this 26th day of November, 2001.
Edward A. Tomchick,
Certifying Officer, Division of Trade Adjustment Assistance.

[FR Doc. 01-30071 Filed 12-4-01; 8:45 am]

BILLING CODE 4510-30-M